DEPARTMENT OF HEALTH AND HUMAN SERVICES

Health Resources and Services Administration

Statement of Organization, Functions and Delegations of Authority

AGENCY: Health Resources and Services Administration, HHS.

ACTION: Correction of Chapter RP title.

SUMMARY: The Health Resources and Services Administration published a Statement of Organization, Functions and Delegations of Authority document in the Federal Register of March 10, 2008 (73 FR 12742), regarding the Bureau of Health Professions. In section heading RP, Office of the Administrator, the title was incorrect.

Correction

In the Federal Register issue of March 10, 2008 (73 FR 12742), correct the section heading Chapter RP, Office of the Administrator as follows:

Chapter RP, Office of the Associate Administrator

Dated: April 3, 2008.
Alexandra Huttinger,
Director, Division of Policy Review and Coordination.

[FR Doc. E8-7581 Filed 4-9-08; 8:45 am]

BILLING CODE 4165-15-P